FEDERAL COMMUNICATIONS COMMISSION

Public Information Collection Requirement Submitted to OMB for Review and Approval, Comments Requested

April 2, 2008.

SUMMARY: The Federal Communications Commission, as part of its continuing effort to reduce paperwork burden, invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before May 12, 2008. If you anticipate that you will be submitting comments, but find it difficult to do so within the period of time allowed by this notice, you should advise the contacts listed below as soon as possible.

ADDRESSES: Direct all PRA comments to Nicholas A. Fraser, Office of Management and Budget, via Internet at Nicholas_A._Fraser@omb.eop.gov or via fax at (202) 395-5167 and to Cathy Williams, Federal Communications Commission, Room 1-C823, 445 12th Street, SW., Washington, DC or via Internet at Cathy.Williams@fcc.gov or PRA@fcc.gov. To view a copy of this information collection request (ICR) submitted to OMB: (1) Go to the Web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the title of this ICR (or its OMB control number, if there is one) and then click on the ICR Reference Number to view detailed information about this ICR.

FOR FURTHER INFORMATION CONTACT: For additional information or copies of the information collection(s), contact Cathy Williams at (202) 418-2918.

SUPPLEMENTARY INFORMATION: OMB Control Number: 3060-0433.

Title: Basic Signal Leakage Performance Report.

Form Number: FCC Form 320.

Type of Review: Extension of a currently approved collection.

Respondents: Business or other for-profit entities.

Number of Respondents: 7,100.

Frequency of Response: Recordkeeping requirement; Annual reporting requirement.

Estimated Time per Hours: 17 hours.

Total Annual Burden: 120,700 hours.

Total Annual Cost: None.

Obligation to Respond: Required to obtain or retain benefits. Statutory authority for this collection of information is contained in sections 4(i), 302 and 303 of the Communications Act of 1934, as amended.

Confidentiality: No need for confidentiality required.

Privacy Impact Assessment(s): No impact(s).

Needs and Uses: Cable television system operators and Multichannel Video Programming Distributors (MPVDs) who use frequencies in the bands 108-137 and 225-400 MHz (aeronautical frequencies) are required to file a Cumulative Signal Leakage Index (CLI) derived under 47 CFR 76.611(a)(1) or the results of airspace measurements derived under 47 CFR 76.611(a)(2). This filing must include a description of the method by which compliance with basic signal leakage criteria is achieved and the method of calibrating the measurement equipment. This yearly filing of FCC Form 320 is done in accordance with 47 CFR 76.1803.

OMB Control Number: 3060-0980.

Title: SHVERA Procedural Rules; Implementation of the Satellite Home Viewer Extension and Reauthorization Act of 2004 (Broadcast Signal Carriage Issues, Retransmission Consent Issues).

Form Number: Not applicable.

Type of Review: Extension of a currently approved collection.

Respondents: Business and other for-profit entities.

Number of Respondents: 7,179.

Estimated Hours per Response: 1 to 5 hours.

Frequency of Response: On occasion reporting requirement; Every three year reporting requirement; Third party disclosure requirement.

Total Annual Burden: 10,196 hours.

Total Annual Cost: $30,000.

Obligation to Respond: Required to obtain or retain benefits. Statutory authority for this collection of information is contained in the Satellite Home Viewer Extension and Reauthorization Act of 2004, Public Law No. 108-447, Section 202, 205, 210, 118 Stat 2809 (2004); 47 CFR 325, 338, 339 and 340.

Confidentiality: No need for confidentiality required.

Privacy Impact Assessment(s): No impact(s).

Needs and Uses: 47 CFR 76.66(c)(3) requires that a commercial television station notify a satellite carrier in writing whether it elects to be carried pursuant to retransmission consent or mandatory consent in accordance with the established election cycle.

47 CFR 76.66(c)(5) requires that a noncommercial television station must request carriage by notifying a satellite carrier in writing in accordance with the established election cycle.

47 CFR 76.66(c)(6) required a commercial television broadcast station located in a local market in a noncontiguous state to make its retransmission consent-mandatory carriage election by October 1, 2005, for carriage of its signals that originate as analog signals for carriage commencing on December 8, 2005 and ending on December 31, 2008, and by April 1, 2007 for its signals that originate as digital signals for carriage commencing on June 8, 2007 and ending on December 31, 2008. For analog and digital signal carriage cycles commencing after December 31, 2008, such stations shall follow the election cycle in 47 CFR 76.66(c)(2) and 47 CFR 76.66(c)(4). A noncommercial television broadcast station located in a local market in Alaska or Hawaii must request carriage by October 1, 2005, for carriage of its signals that originate as an analog signal for carriage commencing on December 8, 2005 and ending on December 31, 2008, and by April 1, 2007 for its signals that originate as digital signals for carriage commencing on June 8, 2007 and ending on December 31, 2008. Moreover, section 76.66(c) requires a commercial television station located in a local market in a noncontiguous state to provide notification to a satellite carrier whether it elects to be carried pursuant to retransmission consent or mandatory consent.

47 CFR 76.66(d) states a television station's written notification must include its call sign, the name of a station contact, the station's community of license, the station's designated market area (DMA) assignment, and, for commercial stations, its election of mandatory carriage or retransmission consent. Within 30 days of receiving a request for carriage, a satellite carrier must notify in writing any station whether it will carry the station requested. If the satellite carrier will not carry the station, it must include its reasons for denying carriage.

47 CFR 76.66(d)(2) requires satellite carriers to issue notices to station licensees when the carrier is going to initiate new local service. These notifications are required to be sent by certified mail to the television station licensees.

47 CFR 76.66(d)(2)(iii) requires a satellite carrier with more than five million subscribers to provide a notice as required by 47 CFR 76.66(d)(2)(i) and 47 CFR 76.66(d)(2)(ii) to each television broadcast station located in a local market in a noncontiguous state, not later than September 1, 2005 with respect to analog signals and a notice not later than April 1, 2007 with respect to digital signals; provided, however, that the notice shall also describe the carriage requirements pursuant to section 338(a)(4) of title 47, United Sates Code, and 47 CFR 76.66(b)(2).

47 CFR 76.66(d)(5) applies to satellite carriers that carry or intend to carry significantly viewed signals and provide television stations with different carriage election options in counties and markets in which the satellite carrier is offering significantly viewed signals. Therefore, if satellite carriers elect to carry significantly viewed signals, they are required to provide notifications to local broadcast stations informing them of their rights to elect mandatory carriage or retransmit consent on a county basis.

47 CFR 76.66(m) states whenever a local broadcast station believes that a satellite carrier has failed to meet its obligations under this section, such station shall notify the carrier, in writing, of the alleged failure and identify its reason for believing that the satellite carrier failed to comply with its obligations.

The satellite carrier shall, within 30 days of such written notification, respond in writing to such notification and comply with such obligations or state its reasons for believing that it is in compliance. A local station that disputes a satellite carrier's response may obtain review of such response by filing a compliant with the Commission in accordance with 47 CFR 76.7 of the rules.

Federal Communications Commission.
Marlene H. Dortch,
Secretary.

[FR Doc. E8-7384 Filed 4-9-08; 8:45 am]

BILLING CODE 6712-01-P